DEPARTMENT OF HEALTH AND HUMAN SERVICES

Administration for Children and Families

Program Announcement; Job Opportunities for Low-Income Individuals

Federal Agency Name: Administration for Children and Families, Office of Community Services.

Funding Opportunity Title: Job Opportunities for Low-Income Individuals (JOLI) Program.

Announcement Type: Initial.

Funding Opportunity Number: HHS-2004-ACF-OCS-EO-0018.

CFDA Number: 93.593.

Due Date for Applications: The due date for receipt of application is July 12, 2004.

I. Funding Opportunity Description

Section 505 of the Family Support Act of 1988, Public Law 100-485, as amended, authorizes the Secretary of HHS to enter into agreements with non-profit organizations (including faith-based organizations and community development corporations) for the purpose of conducting projects designed to create employment opportunities for certain low-income individuals (42 U.S.C. 9926).

Definitions of Terms

The following definitions apply:

Budget and Project Periods—This announcement is inviting applications for budget and project periods up to seventeen (17) months.

Community-Level Data—Key information to be collected by each grantee that will allow for a national-level analysis of common features of JOLI projects. This consists of data on the population of the target area, including the percentage of TANF recipients and others on public assistance, and the percentage whose income fall below the poverty line; the unemployment rate; the number of new business starts and business closings; and a description of the major employers and average wage rates and employment opportunities with those employers.

Community Development Corporation—A private, non-profit entity, governed by a board of directors consisting of residents of the community and business and civic leaders, that has a principal purpose planning, developing, or managing low-income housing or community development projects.

Hypothesis—An assumption made in order to test its validity. It should assert a cause-and-effect relationship between a program intervention and its expected result. Both the intervention and result must be measured in order to confirm the hypothesis. For example, the following is a hypothesis: “Eighty hours of classroom training in small business planning will be sufficient for participants to prepare a successful loan application.” In this example, data would be obtained on the number of hours of training actually received by participants (the intervention), and the quality of loan applications (the result), to determine the validity of the hypothesis (that eighty hours of training is sufficient to produce the result).

Intervention—Any planned activity within a project that is intended to produce changes in the target population and/or the environment and that can be formally evaluated. For example, assistance in the preparation of a business plan and loan package is planned intervention.

Job Creation—To bring about, by activities and services funded under this program, new jobs, that is, jobs that were not in existence before the start of the project. These activities can include self-employment/micro-enterprise training, the development of new business ventures or the expansion of existing businesses.

Non-Profit Organization—Any organization (including a faith-based organization or a community development corporation) exempt from taxation under section 501(a) of the Internal Revenue Code of 1986 by reason of paragraph (3) or (4) of section 501(c) of such Code.

Non-Traditional Employment for Women or Minorities—Employment in an industry or field where women or minorities currently make up less than twenty-five percent of the work force.

Outcome Evaluation—An assessment of project results as measured by collected data which define the net effects of the interventions applied in the project. An outcome evaluation will produce and interpret findings related to whether the interventions produced desirable changes and their potential for replicability. It should answer the question: Did this project work?

Private Employers—Third party non-profit organizations or third party for-profit businesses operating or proposing to operate in the same community as the applicant, and which are proposed or potential employers of project participants.

Process Evaluation—The ongoing examination of the implementation of a program. It focuses on the effectiveness and efficiency of the program’s activities and interventions (for example, methods of recruiting participants, quality of training activities, or usefulness of follow-up procedures). It should answer questions such as: Who is receiving what services and are the services being delivered as planned? It is also known as formative evaluation, because it gathers information that can be used as a management tool to improve the way a program operates while the program is in progress. It should also identify problems that occurred and how they were dealt with and recommend improved means of future implementation. It should answer the question: “How was the program carried out?” In concert with the outcome evaluation, it should also help explain, “Why did this program work/not work?” and, “What worked and what did not?”

Program Participant/Beneficiary—An individual eligible to receive TANF assistance under Title I of the Personal Responsibility and Work Opportunity Reconciliation Act of 1996 (Part A of Title IV of the Social Security Act) and any other individual whose income level does not exceed 100 percent of the official poverty line as found in the most recent revision of the Poverty Income Guidelines published by the Department of Health and Human Services. (See Part A.)

Project Period—This announcement is soliciting applications for project periods of up to seventeen (17) months.

Self-Sufficiency—A condition where an individual or family, by reason of employment, does not need and is not eligible for public assistance.

Third Party—Any individual, organization, or business entity that is not the direct recipient of grant funds.

Third Party Agreement—A written agreement entered into by the grantee and an organization, individual or business entity (including a wholly owned subsidiary), by which the grantee makes an equity investment or a loan in support of grant purposes.

Third Party In-Kind Contributions—The value of non-cash contributions provided by non-Federal third parties which may be in the form of real property, equipment, supplies and other expendable property, and the value of goods and services directly benefiting and specifically identifiable to the project or program.

Program Purpose, Scope and Focus

The purpose of the JOLI program is to create employment and business opportunities for individuals receiving Temporary Assistance for Needy Families (TANF) assistance and other low-income individuals through self-employment, micro-enterprise, new business ventures, and expansion of existing businesses through technical and financial assistance and non-traditional initiatives.

The ultimate goals of the projects to be funded under the JOLI Program are: (a) to achieve, through project activities and interventions, the creation of new employment opportunities for TANF recipients and other low-income individuals that lead to economic self-sufficiency.

Priority will be given to applicants proposing to serve those areas containing the highest percentage of individuals receiving TANF assistance under a State program, which is funded under Part A of Title IV of the Social Security Act.

While projected employment in future years may be included in the application, it is essential that the focus of the project concentrate on the creation of new full-time, permanent jobs and/or new business development opportunities for TANF recipients and other low-income individuals during the grant project period. OCS is particularly interested in receiving innovative applications that grow out of the experience and creativity of applicants and the needs of their clientele and communities.

Applicants should include strategies which seek to integrate projects financed and jobs created under this program into a larger effort of broad community revitalization which will promote job and business opportunities for eligible program participants and impact the overall economic environment.

OCS will only fund projects that create new employment and/or business opportunities for eligible program participants. That is new, full-time permanent jobs through the expansion of a pre-identified business or new business development, or by providing opportunities for self-employment. In addition, projects should enhance the participants' capacities, abilities, and skills and thus contribute to their progress toward self-sufficiency.

With national welfare reform a reality, and many States implementing “welfare-to-work” programs, the need for well-paying jobs with career potential for TANF recipients becomes ever more pressing. In this context, the role of JOLI as a vehicle for exploring new and promising areas of employment opportunity for the poor is more important than ever.

Within the JOLI Program framework of job creation through new or expanding businesses or self-employment, OCS welcomes applications offering business or career opportunities to eligible participants in a variety of fields. For instance, these might include day care and transportation, which are not only opportunities for employment, but when not available, can be serious barriers to employment for TANF recipients; environmental justice initiatives involving activities such as toxic waste cleanup, water quality management, or Brownfield's remediation; health-related jobs such as home health aides or medical support services; and non-traditional jobs for women and minorities.

Priority Areas

I. Priority Area

1. Priority Area 1. Business Expansion

Applicants applying under Priority Area 1 must show that the proposed project will provide technical and/or financial assistance to businesses already in existence to allow the businesses to expand by helping them to obtain better marketing services, contracts, access to additional money to help the business grow, etc., resulting in the creation of new jobs.

2. Priority Area 2. Self-Employment/Micro-enterprise Projects

Applicants applying under Priority Area 2 must show that the proposed project will create self-employment/micro-enterprise opportunities for eligible participants.

Self-employment is the creation of a business that is designed to employ a single individual such as home-based day care, graphic design, medical billings, sewing and secretarial service, etc. Micro-enterprise is the creation of a business that is designed to hire more than one person, i.e., a cleaning business that will create more than one job.

For this Priority Area, OCS does not consider a job to have been created until contracts and/or subcontracts have been committed at the end of the training for each of these self-employment/micro-enterprise businesses that ultimately may be construed as jobs. All applications under this priority area must address the following items:

• The types of self-employment and/or micro-enterprise businesses that may thrive in your target area

• Need for such businesses in those communities

• Applicant's ability to help secure commitments of contracts/subcontracts at the end of the training for each of those self-employment/micro-enterprise businesses. More specifically, who is going to provide the contracts or subcontracts to the individuals that complete the entrepreneur training. The end result of the project should be jobs for low-income individuals. OCS wants to be assured that there are commitments (contracts/subcontracts) attached to entrepreneurs at the end of their training that will ultimately be construed as jobs.

3. Priority Area 3. New Business Venture

Applicants applying under this priority area must show the development of a new business that will train and employ 40-100 TANF and/or low-income persons to work within that business. Applicant must submit a business plan that complies with the test of economic feasibility. (Business Plan requirements are found under, 6. Other Submission Requirements).

4. Priority Area 4. Non-Traditional Projects

Applicants applying under this priority area must show that these projects will train and employ women and minorities in industries and trades where they make up 25 percent or less of the workforce in local industries, for example, women and minorities in highway or heavy construction, machine tool and die, plumbing, construction, and deconstruction, computer repair, lead abatement, etc.

II. Award Information

Funding Instrument Type: Grants.

Anticipated total Priority Area Funding: $4,500,000 in FY 2004.

Anticipated Number of Awards: 9-10.

Ceiling on Amount of Individual Awards: $ 500,000 per project period.

An application that exceeds the upper value of the dollar range specified will be considered “non-responsive” and be returned to the applicant without further review.

Floor of Individual Award Amounts: N/A.

Average projected Award Amount: $ 500,000 per project period.

Project Periods for Awards: 17 months.

III. Eligibility Information

1. Eligible Applicants

Nonprofits having a 501 (c) (3) or (4) status with the IRS, other than institutions of higher education Faith-based Organizations

Additional Information on Eligibility

Non-profit organizations applying for funding are required to submit proof of their non-profit status. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement singed by the parent organization that the applicant organization is a local non-profit affiliate.

Private, non-profit organizations are encouraged to submit with their applications the survey located under “Grant Related Documents and Forms” titled “Survey for Private, Non-Profit Grant Applicants” at http://www.acf.hhs.gov/programs/ofs/htm.

2. Cost Sharing or Matching

None.

3. Other

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

IV. Application and Submission Information

1. Address To Request Application Package

OCS Operations Center, 1815 North Fort Myer Drive, Suite 300, Arlington, Virginia 22209, e-mail: ocs@lcgnet.com, Telephone: 1-800-281-9519.

2. Content and Form of Application Submission

1. Application Content

Each application must include the following components:

1. Table of Contents.

2. Abstract of the Proposed Project—very brief, not to exceed 250 words, that would be suitable for use in an announcement that the application has been selected for a grant award and which identifies the types of business(es) to be assisted, types of jobs, number of jobs to be created, low income persons served and the major elements of the work plan.

3. Completed Standard Form 424—that has been signed by an Official of the organization applying for the grant who has authority to obligate the organization legally.

4. Standard Form 424A—Budget Information-Non-Construction Programs.

5. Narrative Budget Justification—for each object class category required under Section B, Standard Form 424A.

6. Project Narrative—A narrative that addresses issues described in the “Application Review Information” and the “Review and Selection Criteria” sections of this announcement.

7. Applicants are encouraged to use job titles and not specific names in developing the application budget. However, the specific salary rates or amounts for staff positions identified must be included in the application budget.

2. Application Format

Submit application materials on white 8½ x 11 inch paper only. Do not use colored, oversized or folded materials.

Please do not include organizational brochures or other promotional materials, slides, films, clips, etc.

The font size may be no smaller than 12 pitch and the margins must be at least one inch on all sides.

Number all application pages sequentially throughout the package, beginning with the abstract of the proposed project as page number one.

Please present application materials either in loose-leaf notebooks or in folders with pages two-hole punched at the top center and fastened separately with a slide paper fastener.

3. Number of Pages

Each application should include one signed original and two additional copies.

4. Page Limitation

The application package including sections for the Table of Contents, Project Abstract, Project and Budget Narratives and Business Plan must not exceed 60 pages. The page limitation does not include the following attachments and appendices: Standard Forms for Assurances, Certifications, Disclosures and appendices. The page limitation also does not apply to any supplemental documents as required in this announcement.

An application that exceeds the page limitation requirement will be considered “non-responsive” and be returned to the applicant without further review.

5. Required Standard Forms

Applicants requesting financial assistance for non-construction projects must file the Standard Form 424B, “Assurances: Non-Construction Programs.” Applicants must sign and return the Standard Form 424B with their applications.

Applicants must provide a certification regarding lobbying when applying for receiving an award in excess of $100,000. Applicants must sign and return the certification with their application.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

You may submit your application to us in either electronic or paper format. To submit an application electronically, please use the http://www.Grants.gov apply site. If you use Grants.gov, you will be able to download a coy of the application package, complete it off-line, and then upload and submit the application via the Grants.gov site. You may not e-mail an electronic copy of a grant application to us.

Please note the following if you plan to submit your application electronically via Grants. Gov

• Electronic submission is voluntary

• When you enter the Grants. Gov site, you will find information about submitting an application electronically through the site, as well as the hours of operation. We strongly recommend that you do not wait until the application deadline date to begin the application process through Grants. Gov

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.

• We may request that you provide original signatures on forms at a later date.

• You may access the electronic application for this program on www.Grants.gov.

• You must search for the downloadable application package by the CFDA number.

3. Submission Date and Times

The closing time and date for receipt of applications is 4:30 p.m. (Eastern Time Zone) on July 12, 2004. Mailed or hand carried applications received after 4:30 p.m. on the closing date will be classified as late.

Deadline: Mailed applications shall be considered as meeting an announced deadline if they are received on or before the deadline time and date at the Office of Community Services, Operations Center, 1815 Fort Myer Drive, Suite 300, Arlington, Virginia 22209. Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., EST, at the Office of Community Services, Operations Center, 1815 Fort Myer Drive, Suite 300, Arlington, Virginia 22209. This address must appear on the envelope/package containing the application with the note: “Attention: Operations Center”. Applicants are responsible for mailing applications well in advance, when using all mail services, to ensure that the applications are received on or before the deadline time and date.

Applicants are cautioned that express/overnight mail services do not always deliver as agreed.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

Required Forms

What to submit | Required content | Required form or format | When to submit
Table of Contents | As described above | Consistent with guidance in “Application Format” section of this announcement | By application due date.
Abstract of Proposed Project | Brief abstract that identifies the type of project, the target population and the major elements of the proposed project | Consistent with guidance in “Application Format” section of this announcement | By application due date.
Completed Standard Form 424 | As described above and per required form | May be found on http://www.acf.hhs.gov/programs/ofs/forms.htm | By application due date.
Completed Standard Form 424A | As described above and per required form | May be found on http://www.acf.hhs.gov/programs/ofs/forms.htm | By application due date.
Completed Standard Form 424B | As described above and per required form | May be found on http://www.acf.hhs.gov/programs/ofs/forms.htm | By application due date.
Narrative Budget Justification | As described above | Consistent with guidance in “Application Format” section of this announcement | By application due date.
Project Narrative | A narrative that addresses issues described in the “Application Review Information” and the “Review and Selection Criteria” sections of this announcement | Consistent with guidance in “Application Format” section of this announcement | By application due date.
Certification regarding lobbying | As described above and per required form | May be found on http://www.acf.hhs.gov/programs/ofs/forms.htm | By application due date.
Certification regarding environmental tobacco smoke | As described above and per required form | May be found on http://www.acf.hhs.gov/programs/ofs/forms.htm | By application due date.
State Human Services Administrators Responsible for TANF | As described below | May be found on http://www.acf.hhs.gov/programs/ofs/forms.htm
State Child State Support Enforcement Agencies | As described below | May be found on http://www.acf.hhs.gov/programs/ofs/forms.htm
Poverty Guidelines | As described below | May be found on: http://aspe.os.dhhs.gov/poverty/poverty.html
Applicant's Checklist | As described above | May be found on http://www.acf.hhs.gov/programs/ofs/forms.htm

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs. As of October 1, 2003, the following jurisdictions have elected not to participate in the Executive Order process. Applicants from these jurisdictions or for projects administered by federally-recognized Indian Tribes need take no action in regard to E.O. 12372:

All States and Territories except Alabama, Alaska, Arizona, Colorado, Connecticut, Hawaii, Idaho, Indiana, Kansas, Louisiana, Minnesota, Montana, Nebraska, New Jersey, New York, Ohio, Oklahoma, Oregon, Pennsylvania, South Dakota, Tennessee, Vermont, Virginia, Washington, Wyoming and Palau have elected to participate in the Executive Order process and have established Single Points of Contact (SPOCs). Applicants from these twenty-seven jurisdictions need take no action.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Mail Stop 6C-462, Washington, DC 20447.

A list of the Single Points of Contact for each State and Territory is included with the application materials for this announcement.

5. Funding Restrictions

Part A. Program Objectives and Requirements

1. Program Participants/Beneficiaries

A low-income individual eligible to participate in a project conducted under this program is any individual eligible to receive TANF assistance under a State program funded under Part A of Title IV of the Social Security Act, or any other individual whose income level does not exceed 100 percent of the official poverty line (http://aspe.os.dhhs.gov/poverty/poverty.html.) Within these categories, emphasis should be on individuals who are receiving TANF assistance or its equivalent under State auspices; those who are unemployed; those residing in public housing or receiving housing assistance; non-custodial parents, and those who are homeless.

Annual revisions of these guidelines are normally published in the Federal Register in February or early March. Grantees will be required to apply the most recent guidelines throughout the project period. These revised guidelines also may be obtained at public libraries, Congressional offices, by writing the Superintendent of Documents, U.S. Government Printing Office, Washington, DC 20402, or by accessing the following Web site: http://aspe.os.dhhs.gov/poverty/poverty.html.

No other government agency or privately defined poverty guidelines are applicable for the determination of low-income eligibility for this program.

2. National Historic Preservation Act

The use of funds for new construction or the purchase of real property is prohibited. If the applicant is proposing a project that will affect a property listed in, or is eligible for inclusion in, the National Register of Historic Places, it must identify this property in the narrative and explain how it has complied with the provisions of section 106 of the National Historic Preservation Act of 1966 as amended. If there is any question as to whether the property is listed in, or is eligible for inclusion in, the National Register of Historic Places, the applicant should consult with the State Historic Preservation Officer. (See SF-424B) Failure to comply with the cited Act will result in the application being ineligible for funding consideration.

3. Sub-Contracting or Delegating Projects

OCS will not fund any project where the role of the applicant is primarily to serve as a conduit for funds to organizations other than the applicant. The applicant must have a substantive role in the implementation of the project for which funding is requested. This prohibition does not bar the making of sub-grants or sub-contracting for specific services or activities needed to conduct the project.

4. Creation of Jobs and Employment Opportunities

The requirement for creation of new, full-time permanent employment opportunities (jobs) applies to all applications. OCS has determined that the creation of non-traditional job opportunities for women or minorities in industries or activities where they currently make up less than twenty-five percent of the work force meets the requirements of the JOLI legislation for the creation of new employment opportunities. OCS continues to solicit other JOLI applications that propose the creation of jobs through the expansion of existing businesses, the development of new businesses, or the creation of employment opportunities through self-employment/micro-enterprise development.

Proposed projects must show that the jobs and/or business/self employment opportunities to be created under this program will contribute to achieving self-sufficiency among the target population. The employment opportunities should provide hourly wages that exceed the minimum wage and also provide benefits such as health insurance, childcare, and career development opportunities.

5. Third Party Project Evaluation

Applications must include provision for an independent methodologically sound evaluation of the effectiveness of the activities carrier out with the grant and their efficacy in creating new jobs and business opportunities. There must be a well-defined process evaluation and an outcome evaluation whose design will permit tracking of project participants throughout the proposed project period. The evaluation must be conducted by an independent evaluator, i.e., a person with recognized evaluation skills who is organizationally distinct from, and not under the control of the applicant. It is important that each successful applicant should have a third party evaluator selected and performing at the very latest by the time the work program of the project is begun, and if possible before that time, so that he or she can participate in the final design of the program in order to assure that data necessary for the evaluation will be collected and available.

6. Economic Development Strategy

In the Conference Report on the FY 1992 appropriation, Congress directed ACF to require economic development strategies as part of the application process for JOLI to ensure that highly qualified organizations participate in the program. Accordingly, applicants must include in their application an explanation of how the proposed project is integrated with and supports a larger economic development strategy within the target community. Where appropriate, applicants should document how they were involved in the preparation and planned implementation of a comprehensive community-based strategic plan, such as that required for applying for Empowerment Zone/Enterprise Community (EZ/EC) status, to achieve both economic and human development in an integrated manner, and how the proposed project supports the goals of that plan. (See Element II, Sub-Element II(b).)

7. Training and Support for Micro-Business Development

In the case of applications for creating self-employment micro-business opportunities for eligible participants, the applicant must detail how it will provide training and support services to potential entrepreneurs. The assistance to be provided to potential entrepreneurs must include, at a minimum: (a) Technical assistance in basic business planning and management concepts; (b) assistance in preparing a business plan and loan application; and, (c) access to business loans.

8. Support for Non-Custodial Parents

The Office of Community Services (OCS) and the Office of Child Support Enforcement (OCSE), both part of ACF, signed a Memorandum of Understanding (MOU) to foster and enhance partnerships between OCS grantees and local Child Support Enforcement (CSE) agencies. (See the list of CSE State Offices that can identify local CSE agencies.) In the words of the MOU:

“The purpose of these partnerships will be to develop and implement innovative strategies in States and local communities to increase the capability of low-income parents and families to fulfill their parental responsibilities. Too many low-income parents are without jobs or resources needed to support their children. A particular focus of these partnerships will be to assist low-income, non-custodial parents of children receiving TANF to achieve a degree of self-sufficiency that will enable them to provide support that will free their families of the need for such assistance.”

Accordingly, a rating factor and a review criterion have been included in this Program Announcement that will award two points to applicants who have entered into partnership agreements with their local CSE agency to provide for referrals to their project in accordance with provisions of the OCS-OCSE MOU (See Element II, Sub-Element II(c)).

9. Technical Assistance to Employers

Technical assistance should be specifically addressed to the needs of the private employer in creating new jobs to be filled by eligible individuals and/or to the individuals themselves in areas such as job-readiness, literacy, and other basic skills training, job preparation, self-esteem building, etc. Financial assistance may be provided to the private employer as well as to the individual.

If the technical and/or financial assistance is to be provided to pre-identified businesses that will be expanded or franchised, written commitments from the businesses to create the planned jobs must be included with the application.

10. Applicant Experience and Cost-per-Job

In the review process, favorable consideration will be given to applicants with a demonstrated record of achievement in promoting job and enterprise opportunities for low-income people.

The Office of Community Services will not fund projects where the cost-per-job in OCS funds exceeds $10,000. Favorable consideration will be given to those applicants who show the lowest cost-per-job created for low-income individuals.

11. Loan Funds

The creation of a revolving loan fund with funds received under this program is an allowable activity. Loans made to eligible beneficiaries for business development activities must be at or below market rate. Interest accrued on revolving loan funds may be used to continue or expand the activities of the approved project.

12. Dissemination of Project Results

Applications should include a plan for disseminating the results of the project after expiration of the grant period. Applicants may budget up to $2,000 for dissemination purposes. Final project reports should include a description of dissemination activities with copies of any materials produced.

13. Evaluation Criteria

Application Elements and Review Criteria for Applications

Each application that passes the initial screening will be assessed and scored by three independent reviewers. Each reviewer will give a numerical score for each application reviewed. These numerical scores will be supported by explanatory statements on a formal rating form describing major strengths and weaknesses under each applicable criterion published in the Announcement. Scoring will be based on a total of 100 points, and for each application will be the average of the scores of the three reviewers.

The competitive review of applications will be based on the degree to which applicants:

a. Adhere to the requirements in PART A and incorporate each of the Elements and Sub-Elements below into their applications;

b. Describe convincingly a project that will develop new employment or business opportunities for TANF recipients and other low-income individuals that can lead to a transition from dependency to economic self-sufficiency;

c. Propose a realistic budget and time frame for the project that will support the successful implementation of the work plan to achieve the projects goals in a timely and cost effective manner; and

d. Provide for the collection and validation of relevant data to support the national evaluation.

Applications with project narratives (excluding Project Summaries, Budget Justifications and Appendices) of more than 60 letter-sized pages of 12-pitch type or equivalent on single sided will not be reviewed for funding.

Applicants should prepare and assemble their project description using the following outline of required project elements. They should, furthermore, build their project concept, plans, and application description upon the guidelines set forth for each of the project elements.

Project descriptions are evaluated on the basis of substance, not length. Pages should be numbered and a table of contents should be included for easy reference. For each of the Project Elements or Sub-Elements below, there is at the end of the discussion a suggested number of pages to be devoted to the particular element or sub-element. These are suggestions only, but the applicant must remember that the overall Project Narrative must not be longer than 65 pages.

14. Multiple Submittals

Due to the limited amount of funds available under this program, only a single application from any one eligible applicant will be funded by OCS from FY 2004 JOLI funds pursuant to this announcement. The application must consist of one project only.

15. Re-Funding

OCS will not provide funding to a previously funded grantee to carry out the same work plan in the same target area.

6. Other Submission Requirements

1. Documentation of 501(c)(3) or (4) Status

2. Sufficiency of Financial Management

Because JOLI funds are Federal, all grantees must be capable of meeting the requirements of 45CFR Part 74 concerning their financial management system. To assure that the applicant has such capability, applications must include a signed statement from a Certified or Licensed Public Accountant as to the sufficiency of the CDCs financial management system in accordance with 45 CFR 74 and financial statements for the CDC for the prior three years. If such statements are not available because the CDC is a newly formed entity, the application must include a statement to this effect. The CDC grantee is responsible for ensuring that grant funds expended by it and the third party are expended in compliance with Federal regulations of 45 CFR, Part 74 and OMB Circular A-122.

3. Cooperative Partnership Agreement With the Designated Agency Responsible for the TANF Program

A formal, cooperative relationship between the applicant and the designated State agency responsible for administering the TANF program (as provided for under Part A of Title IV of the Social Security Act) in the area served by the project is a requirement for funding. The application should include a signed, written agreement between the applicant and the designated State agency responsible for administering the TANF program. The agreement must describe the cooperative relationship, including specific activities and/or actions each of these entities propose to carry out over the course of the grant period in support of the project.

The agreement, at a minimum, must cover the specific services and activities that will be provided to the target population (see list of the State Human Services Administrators administering TANF).

Applications submitted without an agreement with the TANF agency, but which indicates that it will have a cooperative relationship with the agency responsible for administering the Temporary Assistance For Needy Families Program (TANF) as provided for under title IV-A of the Social Security Act in the area served by the project will receive fewer points.

4. Business Plan

Applications for Priority Areas 1. Business Expansion, 2. Self-Employment/Micro-enterprise Projects, 3. New Business Venture Projects, and 4. Non-traditional Projects must submit a business plan. For incubator or micro-enterprise development projects, the business plan covers the project, not the individual business plans of beneficiaries.

The business plan is a major component that will be evaluated by an expert review panel, OCS and OGM to determine the feasibility of a business venture or other economic development project. It must address all the relevant elements as follows:

(1) Executive Summary (limit to 2 pages).

(2) Description of the business: The business as a legal entity and its general business category. Business activities must be described by Standard Industrial Codes (SIC) and jobs by occupational classification. The information is published by the U. S. Department of Commerce in the Statistical Abstract of the United States, 1998, Tables No. 679 and 680. These tables include information necessary to meet this requirement.

(3) Description of the industry, current status and prospects.

(4) Products and Services, including detailed descriptions of:

(a) Products or services to be sold;

(b) Proprietary Position of any of the product, e.g., patents, copyright, trade secrets;

(c) Features of the product or service that may give it an advantage over the competition;

(5) Market Research: This section describes the research conducted to assure that the business has a substantial market to develop and achieve sales in the face of competition. This includes researching:

(a) Customer base: Describe the actual and potential purchasers for the product or service by market segment.

(b) Market size and trends: Describe the site of the current total market for the product or service offered;

(c) Competition: Provide an assessment of the strengths and weaknesses of the competition in the current market;

(d) Estimated market share and sales: Describe the characteristics of the product or service that will make it competitive in the current market;

(6) Marketing Plan: The marketing plan details the product, pricing, distribution, and promotion strategies that will be used to achieve the estimated market share and sales projections. The marketing plan must describe what is to be done, how it will be done and who will do it. The plan addresses overall marketing, strategy, packaging, service and warranty, pricing, distribution and promotion.

(7) Design and Development Plans: If the product, process or service of the proposed venture requires any design and development before it is ready to be placed on the market, describe the nature, extent and cost of this work. The section covers items such as development status and tasks, difficulties and risks, product improvement and new products and costs.

(8) Operations Plan: An operations plan describes the kind of facilities, site location, space, capital equipment and labor force (part and/or full time and wage structure) that are required to provide the company's product or service.

(9) Management Team: This section describes the technical, managerial and business skills and experience to be brought to the project. This a description of key management personnel and their primary duties; compensation and/or ownership; the organizational structure and placement of this proposed project within the organization; the board of directors; management assistance and training needs; and supporting professional services.

(10) Overall Schedule: This section is the implementation plan which shows the timing and interrelationships of the major events or benchmarks necessary to launch the venture and realize its objectives. This includes a month-by-month schedule of activities such as product development, market planning, sales programs, production and operations.

(11) Job Creation: This section describes the job creation activities and projections expected as a result of this project. This includes a description of the strategy that will be used to identify and hire individuals who are low-income, including those on TANF. This section includes the following:

(a) The number of permanent jobs that will be created during the project period, with particular emphasis on jobs for low-income individuals.

(b) For low-income individuals, the number of jobs that have career development opportunities and a description of those jobs; the number of jobs that will be filled by individuals receiving TANF; the annual salary expected for each person employed.

(c) For low income individuals who become self-employed, the number of self-employed and other ownership opportunities created; specific steps to be taken including on-going management support and technical assistance provided by the grantee or a third party to develop and sustain self-employment after the businesses are in place; and expected net profit after deductions of business expenses;

Note: OCS will not recognize job equivalents nor job counts based on economic multiplier functions; jobs must be specifically identified.

(12) Financial Plan: The financial plan demonstrates the economic supports underpinning the project. It shows the project's potential and the timetable for financial self-sufficiency. The following exhibits must be submitted for the first three years of the business' operation:

(a) Profit and Loss Forecasts—quarterly for each year;

(b) Cash Flow Projections—quarterly for each year;

(c) Pro forma balance sheets—quarterly for each year;

(d) Sources and Use of Funds Statement for all funds available to the project;

(e) Brief summary discussing any further capital requirements and methods or projected methods for obtaining needed resources.

(13) Critical Risks and Assumptions: This section covers the risks faced by the project and assumptions surrounding them. This includes a description of the risks and critical assumptions relating to the industry, the venture, its personnel, the product or service market appeal, and the timing and financing of the venture.

(14) Community Benefits: This section describes other economic and non-economic benefits to the community such as development of a community's physical assets; provision of needed, but currently unsupplied, services or products to the community; or improvement in the living environment.

5. Mobilization of Resources

There is no match requirement for the Job Opportunities for Low-Income Individuals (JOLI) Program. However, OCS will give favorable consideration in the review process to applicants who mobilize cash and/or in-kind contributions for direct use in the project. The firm commitment of these resources must be documented and submitted with the application in order to be given credit in the review process under the Public-Private Partnerships project element (Element II). Except in unusual situations, this documentation must be in the form of letters of commitment from the organization(s)/individual(s) from which resources will be received. Grantees will be held accountable for any match, cash or in-kind contribution proposed or pledged as part of an approved application. (See Element II, Sub-element II(e) and Instructions for Completing the SF-424, Section C, Non-Federal Resources).

6. Third Party Agreements

Any applicant submitting a application for funding who proposes to use some or all of the requested OCS funds to enter into a third party agreement in order to make an equity investment (such as the purchase of stock) or a loan to an organization, or business entity (including a wholly-owned subsidiary), must include in the application, along with the business plan, a copy of the signed third party agreement for approval by OCS.

All third party agreements must include written commitments as follows:

From the third party (as appropriate):

a. Jobs to be created as a result of the infusion of grant funds will be filled by low-income individuals;

b.The grantee will have the right to screen applicants for jobs to be filled by low-income individuals and to verify their eligibility;

c. If the grantee's equity investment equals 25 percent or more of the business' assets, the grantee will have representation on the board of directors;

d. Reports will be made to the grantee regarding the use of grant funds no less than on a quarterly basis;

e. A procedure will be developed to assure that there are no duplicate counts of jobs created; and

f. Detailed information should be provided on how the grant funds will be used by the third party by submitting a narrative Source and Use of Funds Statement. In addition, the agreement must provide details on how the grantee will provide support and technical assistance to the third party in areas of recruitment and retention of low-income individuals.

A third party agreement covering an equity investment must contain, at a minimum, the following:

a. The type of equity transaction (e.g. stock purchase);

b. Purpose(s) for which the equity investment is being made;

c. Cost per share and basis for determining cost per share;

d. Number of shares being purchased;

e. Percentage of ownership of the business; and,

f. Number of seats on the board, if applicable.

A third party agreement covering a loan transaction must contain, at a minimum, the following information:

g. Purpose(s) for which the loan is being made;

h. Rates of interest and other fees;

i. Terms of loan;

j. Repayment schedules;

k. Collateral security; and

l. Default and collection procedures.

From the grantee: Detailed information on how the grantee will provide support and technical assistance to the third party in areas of recruitment and retention of low-income individuals.

All third party agreements should be accompanied by:

m. A signed statement from a Certified or Licensed Public Accountant as to the sufficiency of the third party's financial management system in accordance with 45 CFR 74, to protect adequately any federal funds awarded under the application;

n. Financial statements for the third party organization for the prior three years. (If not available because the organization is a newly-formed entity, include a statement to this effect); and

o. Specifications as to how the grantee will provide oversight of the third party for the life of the agreement. Also, the agreement will specify that the third party will maintain documentation related to the expenditure of grant funds loaned to or invested in the third party and grant objectives as specified in the agreement and will provide the grantee and HHS access to that documentation. If a signed third party agreement is not available when the application is submitted, the applicant must submit, as part of the narrative, as much of the above-mentioned information as possible in order to enable reviewers to evaluate the application.

Note: Funded applications with funds for a third party agreement will not have those funds released until the agreement has been approved by the Office of Community Services.

Applicants submitting an application must include the following:

a. A signed statement from a Certified or Licensed Public Accountant as to the sufficiency of the third party's financial management system in accordance with 45 CFR 74, to protect adequately any federal funds awarded under the application;

b. Financial statements for the applicant organization for the prior three years. (If not available because the organization is a newly-formed entity, include a statement to this effect); and

V. Application Review Information

1. Criteria

Paperwork Reduction Act of 1995 (Pub. L. 104-13): Public reporting burden for this collection is estimated to average 25 hours per response, including the time for reviewing instructions, gathering and maintaining the data needed and reviewing the collection of information.

The project description is approved under OMB control #0970-0139.

An agency may not conduct or sponsor, and a person is not required to respond to, a collection of information unless it displays a currently valid OMB control number.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, describe the population to be served by the program and the number of new jobs that will be targeted to the target population. Explain how the project will reach the targeted population, how it will benefit participants including how it will support individuals to become more economically self-sufficient.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. Account for all functions or activities identified in the application. Cite factors that might accelerate or decelerate the work and state your reasons for taking the proposed approach rather than others. Describe any unusual features of the project such as design or technical innovations, reductions in cost or time or extraordinary social and community involvement.

Provide quantitative monthly or quarterly projections of the accomplishments to be achieved for each function or activity in, for example such terms as the “number of people served.” When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

1. Evaluation Criteria

Criteria for Review and Evaluation of Applications Submitted Under Job Opportunities for Low-Income Individuals (JOLI) Program

Evaluation Criterion I: Approach (Maximum: 30 Points)

Element I: Project Theory, Design and Plan

OCS seeks to learn from the application why and how the project, as proposed, is expected to lead to the creation of new employment opportunities for low-income individuals, which can lead to significant improvements in individual and family self-sufficiency.

Applicants are urged to design and present their project in terms of a conceptual cause-effect framework. In the following paragraphs, a framework is described that suggests a way to present a project so as to show the logic of the cause-effect relations between project activities and project results. Applicants are not required to use the exact language described; but it is important to present the project in a way that makes clear the cause-effect relationship between what the project plans to do and the results it expects to achieve.

Sub-Element (a)—Description of Target Population, Analysis of Need and Project Assumptions (Weight of 0-10 Points in application Review)

The project design or plan should begin by identifying the underlying program assumptions. These are the beliefs on which the proposed program is built. These assumptions include: The needs of the population to be served; the current services available to that population, and where and how they fail to meet their needs; why the proposed services or interventions are appropriate and will meet those needs; and the impact the proposed interventions will have on the project participants. In other words, the underlying assumptions of the program are the applicant's analysis of the needs and problems to be addressed by the project, and the applicant's theory of how its proposed interventions will address those needs and problems to achieve the desired result. Thus a strong application is based upon a clear description of the needs and problems to be addressed and a persuasive understanding of the causes those problems. (0-4 Points)

In this sub-element of the application, the applicant must precisely identify the target population to be served. The geographic area to be impacted should then be described briefly, citing the percentage of low-income individuals and TANF recipients, as well as the unemployment rate and other data relevant to the project design. (0-2 Points)

The application should include an analysis of the identified personal barriers to employment, job retention and greater self-sufficiency faced by the target population. (These might include such problems as illiteracy, substance abuse, family violence, lack of skills training, health or medical problems, need for child care, lack of suitable clothing or equipment or poor self-image.) (0-2 Points)

The application should also include an analysis of the identified community systemic barriers that the project will seek to overcome. These might include lack of jobs (high unemployment rate); lack of public transportation; lack of markets; unavailability of financing, insurance or bonding; inadequate social services (employment service, child care, job training); high incidence of crime; inadequate health care; or environmental hazards (such as toxic dumpsites or leaking underground tanks). (0-2 Points)

Applicants should be sure not to overlook the personal and family services and support that might be needed by project participants after they are on the job which will enhance job retention and advancement.

If the jobs to be created by the proposed project are themselves designed to fill one or more of the needs, or remove one of more of the barriers so identified, this fact should be highlighted in the discussion, e.g., jobs in child care, health care or transportation.

It is suggested that applicants use no more than 4 pages for this sub-element.

Sub-Element (b)—Project Strategy and Design: Interventions, Outcomes and Goals (Weight of 0-10 Points in Application Review)

The work plan must describe the proposed project activities, or interventions, and explain how they are expected to result in outcomes that will meet the needs of the program participants and assist them to overcome the identified personal and systemic barriers to employment, job retention and self-sufficiency. In other words, what will the project staff do with the resources provided to the project and how will what they do (interventions) assist in creating and sustaining employment and business opportunities for program participants in the face of the needs and problems that have been identified? (0-4 Points)

The underlying assumptions concerning client needs and the theory of how they can be effectively addressed, which are discussed above, lead in the project design to the conduct of a variety of project activities or interventions, each of which is assumed to result in immediate changes or outcomes. The immediate changes lead to intermediate outcomes; and the intermediate outcomes lead to the attainment of the final project goals.

The applicant should describe the major activities, or interventions, which are to be carried out to address the needs and problems identified in Sub-Element II(a); and should discuss the immediate changes or outcomes, which are expected to result. These are the results expected from each service or intervention immediately after it is provided. For example, a job readiness training program might be expected to result in clients having increased knowledge of how to apply for a job, improved grooming for job interviews, and improved job interview skills; or business training and training in bookkeeping and accounting might be expected to result in project participants making an informed decision about whether they are suited for entrepreneurship. (0-2 Points)

At the next level are the intermediate outcomes, which result from these immediate changes. Often an intermediate project outcome is the result of several immediate changes resulting from a number of related interventions such as training and counseling. Intermediate outcomes should be expressed in measurable changes in knowledge, attitudes, behavior, or status/condition. In the above examples, the immediate changes achieved by the job readiness program, coupled with technical assistance to an employer in the expansion of a business, could be expected to lead to intermediate outcomes of creation of new job openings and in the participant applying for a job with the company. The acquisition of business skills, coupled with the establishment of a loan fund, could be expected to result in the actual decision by the participant to go into a particular business venture or seek the alternative track of pursuing job readiness and training. (0-2 Points)

Finally, the application should describe how the achievement of these intermediate outcomes will be expected to lead to the attainment of the project goals; employment in newly created jobs, new careers in non-traditional jobs, successful business ventures, or employment in an expanded business, depending on the project design. Applicants must remember that if the major focus of the project is to be the development and start-up of a new business or the expansion of an existing business, then a business plan that follows the outline in this announcement must be submitted as an appendix to the application. (See Part A) (0-2 Points)

Applicants do not have to use the exact terminology described above, but it is important to describe the project in a way that makes clear the expected cause-and-effect relationship between what the project plans to do: The activities or interventions, the changes that are expected to result and how those changes will lead to attainment of the project goals of new employment opportunities and greater self-sufficiency. The competitive review of this sub-element will be based on the extent to which the application makes a convincing case that the activities to be undertaken will lead to the projected results.

It is suggested that applicants use no more than 4 pages for this sub-element.

Sub-Element (c)—Work Plan (Weight of 0-10 Points in Application Review)

Once the project strategy and design framework is established, the applicant should present a detailed work plan for the project. The plan should explicitly tie into the project design framework and should be feasible, i.e., capable of being accomplished with the resources, staff and partners available. The plan should briefly describe the key project tasks and show the time lines and major milestones for their implementation. Critical issues or potential problems that might affect the achievement of project objectives should be explicitly addressed, with an explanation of how they would be overcome, and how the objectives will be achieved notwithstanding any such problems. The plan should be presented in such a way that it can be correlated with the budget narrative included earlier in the application. Applicants may be able to use a simple Gantt or timeline chart to convey the work plan in minimal space. (0-5 Points)

The application contains a full and accurate description of the proposed use of the requested financial assistance. If the applicant proposes to make an equity investment or a loan to an individual, organization, or business entity (including a wholly-owned subsidiary), the application must include: A signed third party agreement; a signed statement by a Certified or Licensed Public Accountant as to the sufficiency of the third party's financial management system; and financial statements for the third party's prior three years of operation. (If newly formed and unable to provide the information regarding the prior three years of operation, a statement to that effect should be included.) If the applicant states that an agreement is not currently in place, the application must contain in the narrative as much information required for third party agreements as is available. Also, if the project proposes the development of a new or expanded business, service, physical or commercial activity, the application must address applicable elements of a business plan. Guidelines for a business plan are found under, 6. Other Submission Requirements. (0-2 Points)

Special attention should be given to assure that the financial plan element, which indicates the project's potential and timetable for financial self-sufficiency, is included. It must include for the applicant and the third party, if appropriate, the following exhibits for the first three years (on a quarterly basis) of the business' operations: Profit and Loss Forecasts, Cash Flow Projections and Pro Forma Balance Sheets. Based on these documents, the application must also contain an analysis of the financial feasibility of the project. Also, a narrative “Source and Use of Funds” statement for all project funding must be included. (0-3 Points)

It is suggested that applicants use no more than 3 pages for this sub-element.

Evaluation Criterion II: Results or Benefits Expected (Maximum: 30 Points)

Element II: Significant and Beneficial Impact

Sub-Element (a)—Quality of Jobs/Business Opportunities (Weight of 0-10 Points in Application Review)

The proposed project is expected to produce permanent and measurable results that will reduce the incidence of poverty in the community and lead welfare recipients from welfare dependency toward economic self-sufficiency. Results are expected to be quantifiable in terms of the creation of permanent, full-time jobs; the development of business opportunities; the expansion of existing businesses; or the creation of non-traditional employment opportunities. In developing business opportunities and self-employment for TANF recipients and low-income individuals; the applicant proposes, at a minimum, to provide basic business planning and management concepts, and assistance in preparing a business plan and loan package. (0-5 Points)

The application should document that:

The business opportunities to be developed for eligible participants will contribute significantly to their progress toward self-sufficiency; and/or jobs to be created for eligible participants will contribute significantly to their progress toward self-sufficiency. For example, they should provide salaries that exceed the minimum wage, plus benefits such as health insurance, child care and career development opportunities. (0-5 Points)

It is suggested that applicants use no more than 2 pages for this sub-element.

Sub-Element (b)—Community Empowerment Consideration (Weight of 0-3 Points in Application Review)

Special consideration will be given to applicants located in areas characterized by conditions of extreme poverty and other indicators of socio-economic distress. Examples of such distress may include: A poverty rate of at least 20 percent, designation as an EZ/EC, high levels of violence, gang activity or drug use. Applicants should document that in response to these conditions, they have been involved in the preparation and planned implementation of a comprehensive community-based strategic plan to achieve both economic and human development in an integrated manner, and they should identify how the proposed project will support the goals of that plan.

It is suggested that applicants use no more than 2 pages for this sub-element.

Sub-Element (c)—Support for Non-Custodial Parents (Weight of 0-2 Points in Application Review)

Applicants who have entered into partnership agreements with local CSE Agencies will also receive special consideration upon demonstrating they have developed and implemented innovative strategies to increase the capability of low-income parents and families, which assists them to fulfill their parental responsibilities. In addition, such partnership agreements should include referrals of identified income eligible families and non-custodial parents economically unable to provide child support to the applicant's project.

To receive the full credit of two points, applicants should include, as an Appendix to the application, a signed letter of agreement with the local CSE Agency for referral of eligible non-custodial parents to the proposed project. See listed information on the location of the local CSE Agency in your state.

It is suggested that applicants use no more than 1 page for this sub-element.

Sub-Element (d)—Cooperative Partnership Agreement with the Designated Agency Responsible for the TANF Program (Weight of 0-5 Points in Application Review)

The application should include a signed, written agreement between the applicant and the designated State agency responsible for administering the TANF Program. The agreement, at a minimum, must cover the specific services and activities that will be provided to the target population. Applications that contain such an agreement will receive the maximum five (5) points.

Applications that have not included a signed written agreement but document that the organization is in the process of securing a cooperative relationship with the agency responsible for administering the Temporary Assistance For Needy Families Program (TANF) (as provided for under Title IV-A of the Social Security Act) in the area served by the project will receive a much lesser point. (2 Points)

It is suggested that applicants use no more than 1 page for this sub-element.

Sub-Element (e)—Public/Private Partnerships and Resources (Weight of 0-5 Points in the Application Review)

The application should briefly describe any public/private partnerships, which will contribute to the implementation of the project. Where partners' contributions to the project are a vital part of the project design and work program, the narrative should describe undertakings of the partners. A partnership agreement specifying the roles of the partners and making a clear commitment to the fulfilling of the partnership role must be included in an appendix to the application. The firm commitment of mobilized resources must be documented and submitted with the application in order to be given credit under this element. The application should meet the following criteria:

Where other resources are mobilized, the application must provide documentation that public and/or private sources of cash and/or third party-in-kind contributions will be available in the form of letters of commitment from the organization(s)/individual(s) from which resources will be received. Applications that can document dollar for dollar contributions equal to the OCS funds, and demonstrate that the partnership agreement clearly relates to the objectives of the proposed project will receive the maximum number of points for this criterion. Lesser contributions will be given consideration based upon the value documented.

Note: Even though there is no matching requirement for the JOLI Program, grantees will be held accountable for any match, cash or in-kind contribution proposed or pledged as part of an approved application. (See Part A—Mobilization of Resources.)

• Partners involved in the proposed project should be responsible for substantive project activities and services. Applicants should note that partnership relationships are not created via service delivery contracts.

It is suggested that applicants use no more than 4 pages for this element.

Sub-Element (f)—Cost-Per-Job (Weight of 0-5 Points in Application Review)

The applicant should document that during the project period the proposed project will create new, permanent jobs through business opportunities or non-traditional employment opportunities for low-income residents. The cost-per-job should be calculated by dividing the total amount of grant funds requested (e.g., $500,000) by the number of jobs to be created (e.g., 50) which would equal the cost-per-job ($10,000). In making calculations of cost-per-job, only jobs filled by low-income project participants may be counted. (See Part A, Applicant Experience and Cost-per-job.)

Note: The Office of Community Services will not fund projects where the cost-per-job in OCS funds exceeds $10,000. The maximum number of points will be given only to those applicants proposing cost-per-job created estimates of $10,000 or less of OCS requested funds.

It is suggested that applicants use no more than 1 page for this sub-element.

Evaluation Criterion III: Organizational Profiles (Maximum 20 Points)

Element III—Organizational Experience in Program Area and Staff Skills, Resources and Responsibilities

Sub-Element (a)—Agency's Experience and Commitment in Program Area (Weight of 0-10 Points in Application Review)

Applicants should cite their organization's capability and relevant experience in developing and operating programs which deal with poverty problems similar to those to be addressed by the proposed project. They should also cite the organization's experience in collaborative programming and operations that involve evaluations and data collection. Applicants should identify agency executive leadership in this section and briefly describe their involvement in the proposed project and provide assurance of their commitment to its successful implementation. (0-6 Points.)

The application should include documentation that briefly summarizes two similar projects undertaken by the applicant agency and the extent to which the stated and achieved performance targets, including permanent benefits to low-income populations, have been achieved. The application should note and justify the priority that this project will have within the agency, including the facilities and resources that it has available to carry it out. (0-4 Points)

It is suggested that applicants use no more than 2 pages for this sub-element.

Note: The maximum number of points will be given only to those organizations with a demonstrated record of achievement in promoting job creation and enterprise opportunities for low-income people.

Sub-Element (b)—Staff Skills, Resources and Responsibilities (Weight of 0-10 Points in Application Review)

The application must identify the two or three individuals who will have the key responsibility for managing the project, coordinating services and activities for participants and partners, and for achieving performance targets. The focus should be on the qualifications, experience, capacity and commitment to the program of the executive officials of the organization and the key staff persons who will administer and implement the project. The person identified as project director should have supervisory experience, experience in finance and business, and experience with the target population. Because this is a new project, within an already-established agency, OCS expects that the key staff person(s) would be identified, if not hired, or provide an estimated hiring time line for each individual to be on board. (0-5 Points)

The application must also include a resume of the third party evaluator, if identified or hire; or the minimum qualifications and position description for the third party evaluator, who must be a person with recognized evaluation skills who is organizationally distinct from and not under the control of applicant. (See Element IV: Project Evaluation, below, for fuller discussion of evaluator qualifications.) (0-3 Points)

Actual resume of key staff and position descriptions should be included in an appendix to the application. (0-2 Points)

It is suggested that applicants use no more than 3 pages for this sub-element.

Evaluation Criteria IV: Project Evaluation (Maximum: 15)

Element IV: Project Evaluation (Weight of 0-15 Points in the Application Review)

Sound evaluations are essential to the JOLI Program. OCS requires each application to include a well thought through outline of an Evaluation Plan for the project. The outline should explain how the applicant proposes to answer the key questions about how effectively the project will be implemented such as (1) whether the project activities or interventions achieve the expected immediate outcomes; (2) why or why not (the process evaluation); (3) whether and to what extent the project achieved its stated goals; and (4) why or why not (the outcome evaluation). Together the process and outcome evaluations should answer the question: “What did this program accomplish and why did it work/not work?” (0-5 Points)

Applicants should ensure, above all, that the evaluation outline presented is consistent with their project design. A clear project framework of the type recommended earlier identifies the key project assumptions about the target population and their needs, as well as the hypotheses, or expected cause-effect relationships to be tested in the project; and the proposed project activities, or interventions, that will address those needs in ways that will lead to the achievement of the project goals of self-sufficiency. It also identifies in advance the most important process and outcome measures that will be used to identify performance success and expected changes in individual participants, the grantee organization and the community. (0-3 Points)

Applicants are not being asked to submit a complete and final Evaluation Plan as part of their application, but they must include:

1. A well thought through Evaluation Plan outline that identifies the principal cause-and-effect relationships to be tested, and that demonstrates the applicant's understanding of the role and purpose of both process and outcome evaluations (see previous paragraph); (0-2 Points)

2. The identity and qualifications of the proposed independent third party evaluator, i.e., a person or organization with recognized evaluation skills. Assurance that the third party evaluator will be organizationally distinct from and not under the control of, the applicant. The third party evaluators qualifications must include successful experience in evaluating social service delivery programs, and the planning and/or evaluation of programs designed to foster self-sufficiency in low-income populations; (0-2 Points) and

3. A commitment to the selection of a third party evaluator approved by OCS and completion of a final evaluation design and plan, in collaboration with the approved evaluator and the OCS evaluation technical assistance contractor during the six-month start-up period of the project, if funded. (0-1 Points)

Finally, as noted above, the outline should provide for prompt reporting, concurrently with the semi-annual program progress reports, of lessons learned during the course of the project, so that they may be shared without waiting for the final evaluation report. For all these reasons, it is important that each successful applicant have a third party evaluator selected and performing at the very latest by the time the work program of the project is begun, and if possible before that time so that he or she can participate in the final design of the program and assure that data necessary for the evaluation will be collected and available. Plans for selecting an evaluator should be included in the application narrative. A third party evaluator must have knowledge of and experience in conducting process and outcome evaluations in the job creation field, and have thorough understanding of the range and complexity of the problems faced by the target population. (0-2 Points)

The competitive procurement regulations (45 CFR Part 74, sections 74.40-74.48, esp. 74.43) apply to service contracts such as those for evaluators.

It is suggested that applicants use no more than 3 pages for this element, plus the resume or position description for the evaluator, which should be in an appendix.

Evaluation Criteria V: Budget and Budget Justification (Maximum: 5 Points)

Element V: Budget Appropriateness and Reasonableness (Weight of 0-5 Points in Application Review)

Applicants must submit a detailed budget breakdown and a budget narrative or explanatory budget information for each of the budget categories in the SF-424A. The duration of the proposed project and the funds requested in the budget must be commensurate with the level of effort necessary to accomplish the goals and objectives of the project. The estimated cost to the government of the project should be reasonable in relation to the project's duration and to the anticipated results. The applicant presents a reasonable administrative cost. (0-3 Points)

Applicants must also include a Source and Use Document showing total project cost and the document should include all mobilized resources to accomplish project purposes within the proposed time frame. (0-2 Points)

This budget narrative and Source and Use Document are not considered a part of the project narrative, and does not count as part of the 30 page limitation but rather should be included in the application following the budget forms (SF-424 and SF-424A).

Applicants should include funds in the project budget for travel by project directors and chief evaluators to attend two national evaluation workshops in Washington, D.C.

2. Review and Selection Process

Initial OCS Screening

Each application submitted to OCS will be screened to determine whether it was received by the closing date and time.

Applications received by the closing date and time will be screened for completeness and conformity with the following requirements. Only complete applications that meet the requirements listed below will be reviewed and evaluated competitively. Other applications will be returned to the applicants with a notation that they were unacceptable and will not be reviewed.

All applications must comply with the following requirements except as noted:

(a) The application must contain a signed Standard Form 424 Application for Federal Assistance, a Standard Form 424-A Budget Information and signed Standard Form 424B Assurance—Non-Construction Programs completed according to instructions provided in this Program Announcement. The forms SF-424 and the SF-424B must be signed by an official of the organization applying for the grant who has authority to obligate the organization legally. The applicant's legal name as required on the SF-424 (Item 5) must match that listed as corresponding to the Employer Identification Number (Item 6);

(b) The application must include a project narrative that meets requirements set for in this announcement.

(c) The application must contain documentation of the applicant's tax-exempt status as indicated in the “Additional Information on Eligibility” section of this announcement.

OCS Evaluation of Applications

Applications that pass the initial OCS screening will be reviewed and rated by a panel based on the program elements and review criteria presented in relevant sections of this program announcement.

The review criteria are designed to enable the review panel to assess the quality of a proposed project and determine the likelihood of its success. The criteria are closely related to each other and are considered as a whole in judging the overall quality of an application. The review panel awards points only to applications that are responsive to the program elements and relevant review criteria within the context of this program announcement.

The OCS Director and program staff use the reviewer scores when considering competing applications. Reviewer scores will weigh heavily in funding decisions, but will not be the only factors considered.

Applications generally will be considered in order of the average scores assigned by the review panel. Because other important factors are taken into consideration, highly ranked applications are not guaranteed funding. These other considerations include, for example: the timely and proper completion by the applicant of projects funded with OCS funds granted in the last five (5) years; comments of reviewers and government officials; staff evaluation and input; amount and duration of the grant requested and the proposed project's consistency and harmony with OCS goals and policy; geographic distribution of applications; previous program performance of applicants; compliance with grant terms under previous HHS grants, including the actual dedication to program of mobilized resources as set forth in project applications; audit reports; investigative reports; and applicant's progress in resolving any final audit disallowance on previous OCS or other Federal agency grants.

VI. Award Administration Information

In cases where more applications are approved for funding than ACF can fund with money available, the Grants Officer shall fund applications in their order of approval until funds run out. In this case, ACF has the option of carrying over the approved applications up to a year for funding consideration in a later competition of the same program. These applications need not be reviewed and scored again if the program's evaluation criteria have not changed. However, they must be placed in rank order along with other applications in the later competition.

1. Award Notices: 90 days after the due date of applications.

The successful applicants will be notified through the issuance of a Financial Assistance Award document which sets forth the amount of funds, granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements: 45 CFR part 74

Special Terms and Conditions of Awards: None.

3. Reporting Requirements

Programmatic Reports: Semi-annually with a final report due 90 days after the project end date.

Financial Reports: Semi-annually with a final report due 90 days after the project end date.

Special Reporting Requirements: None.

VII. Agency Contacts

Program Office Contact: Aleatha E. Slade, Office of Community Services, Operations Center, 1815 North Fort Myer Drive, Suite 300, Arlington, Virginia 22209, E-mail: ocs@lcgnet.com, Telephone: 1-800-281-9519.

Grants Management Office Contact: Barbara Ziegler Johnson, Office of Grants Management, Division of Discretionary Grants, 370 L'Enfant Promenade, SW., Aerospace Building, Washington, DC 20447-0002. E-mail: dweeden@acf.hhs.gov. Telephone: (202) 401-2344.

VIII. Other Information

Additional information about this program and its purpose can be located on the following Web site: http://www.acf.hhs.gov/programs/ocs.

Dated: May 3, 2004.
Clarence H. Carter,
Director, Office of Community Services.

[FR Doc. 04-10554 Filed 5-10-04; 8:45 am]

BILLING CODE 4184-01-P